SMALL BUSINESS ADMINISTRATION

[Disaster Declaration #21450 and #21451; Washington Disaster Number WA-20025]

Administrative Declaration of a Disaster for the State of Washington

AGENCY: U.S. Small Business Administration.

ACTION: Notice.

SUMMARY: This is notice of an Administrative declaration of a disaster for the state of Washington dated February 24, 2026.

Incident: 2025 Severe Winter Storms.

DATES: Issued on February 24, 2026.

Incident Period: December 5, 2025 through December 22, 2025.

Physical Loan Application Deadline Date: April 27, 2026.

Economic Injury (EIDL) Loan Application Deadline Date: November 24, 2026.

ADDRESSES: Visit the MySBA Loan Portal at https://lending.sba.gov to apply for a disaster assistance loan.

FOR FURTHER INFORMATION CONTACT: Sharon Henderson, Office of Disaster Recovery and Resilience, U.S. Small Business Administration, 409 3rd Street SW, Suite 6050, Washington, DC 20416, (202) 205-6734.

SUPPLEMENTARY INFORMATION: Notice is hereby given as a result of the Administrator's disaster declaration, applications for disaster loans may be submitted online using the MySBA Loan Portal https://lending.sba.gov or in person at other locally announced locations. For further assistance please contact the SBA disaster assistance customer service center by email at disastercustomerservice@sba.gov or by phone at 1-800-659-2955. If you are deaf, hard of hearing, or have a speech disability, please dial 7-1-1 to access telecommunications relay services.

The following areas have been determined to be adversely affected by the disaster:

Primary Counties: King, Lewis, Skagit, Snohomish, Whatcom.

Contiguous Counties:

Washington: Chelan, Cowlitz, Grays Harbor, Island, Kitsap, Kittitas, Okanogan, Pacific, Pierce, Skamania, Thurston, Wahkiakum, Yakima.

The Interest Rates are:

| Percent
For Physical Damage:
Homeowners with Credit Available Elsewhere | 5.750
Homeowners without Credit Available Elsewhere | 2.875
Businesses with Credit Available Elsewhere | 8.000
Businesses without Credit Available Elsewhere | 4.000
Private Non-Profit Organizations with Credit Available Elsewhere | 3.625
Private Non-Profit Organizations without Credit Available Elsewhere | 3.625
For Economic Injury:
Business and Small Agricultural Cooperatives without Credit Available Elsewhere | 4.000
Private Non-Profit Organizations without Credit Available Elsewhere | 3.625

The number assigned to this disaster for physical damage is 214506 and for economic injury is 214510.

The states which received an SBA Administrative declaration are Washington.

(Catalog of Federal Domestic Assistance Number 59008)

(Authority: 13 CFR 123.3(b).)

James Stallings,
Associate Administrator, Office of Disaster Recovery & Resilience.

[FR Doc. 2026-03916 Filed 2-26-26; 8:45 am]

BILLING CODE 8026-09-P